DEPARTMENT OF AGRICULTURE

Natural Resources Conservation Service

Notice of Proposed Changes to the National Handbook of Conservation Practices for the Natural Resources Conservation Service

AGENCY: Natural Resources Conservation Service (NRCS).

ACTION: Notice of availability of proposed changes in the NRCS National Handbook of Conservation Practices for public review and comment.

SUMMARY: Notice is hereby given of the intention of NRCS to issue a series of revised conservation practice standards in the National Handbook of Conservation Practices. These standards include: Air Filtration and Scrubbing (Code 371), Animal Trails and Walkways (Code 575), Combustion System Improvement (Code 372), Conservation Crop Rotation (Code 328), Diversion (Code 362), Dust Control on Unpaved Roads and Surfaces (Code 373), Forage Harvest Management (Code 511), Herbaceous Weed Control (Code 315), Range Planting (Code 550), and Riparian Herbaceous Cover (Code 390). NRCS State Conservationists who choose to adopt these practices for use within their States will incorporate them into Section IV of their respective electronic Field Office Technical Guides. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective January 28, 2010.

Comment date: Submit comments on or before March 1, 2010. Final versions of these new or revised conservation practice standards will be adopted after the close of the 30-day period, and after consideration of all comments.

ADDRESSES: Comments should be submitted using any of the following methods:

• Mail: Wayne Bogovich, National Agricultural Engineer, Conservation Engineering Division, Department of Agriculture, Natural Resources Conservation Service, 1400 Independence Avenue, SW., Room 6136 South Building, Washington, DC 20250.

• E-mail: wayne.bogovich@wdc.usda.gov.

FOR FURTHER INFORMATION CONTACT: Wayne Bogovich, National Agricultural Engineer, Conservation Engineering Division, Department of Agriculture, Natural Resources Conservation Service, 1400 Independence Avenue, SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue, SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Air Filtration and Scrubbing (Code 371)—This is a new standard which is a device or system for reducing emissions of air contaminants from a structure.

Animal Trails and Walkways (Code 575)—Proposed revisions are limited but include greater emphasis of potential impacts to water courses and other environmental and cultural resources.

Combustion System Improvement (Code 372)—This is a new standard to improve the air quality and energy efficiency of agricultural combustion systems.

Conservation Crop Rotation (Code 328)—The revised standard adds a purpose for cropping system diversity and pollinator habitat. Additional criteria have been added to improve soil quality and nutrient balance.

Diversion (Code 362)—Revisions include expansion of the Plans and Specifications section along with updated references.

Dust Control on Unpaved Roads and Surfaces (Code 373)—This is a new standard for controlling direct particulate matter emissions produced by vehicle and machinery traffic or wind action from unpaved roads and other surfaces by applying a palliative on the surface.

Forage Harvest Management (Code 511)—Revisions are minor in nature with updated references included.

Herbaceous Weed Control (Code-315)—This is a new standard to provide for herbaceous weed control on lands not actively in crop production. Requirements are included for biological, chemical, and mechanical control.

Range Planting (Code 550)—Revisions incorporate Ecological Site Description use for planning purposes and updates the reference section. Minor changes in wording occur throughout the standard.

Riparian Herbaceous Cover (Code 390)—Proposed revisions expand the practice purpose to include more habitat functions, including providing habitat for pollinator conservation. Use of ecological site descriptions for planning and monitoring this practice has been added. Additional references have been included.

Signed this January 25, 2010, in Washington, DC.
Dave White,
Chief, Natural Resource Conservation Service.

[FR Doc. 2010-1745 Filed 1-27-10; 8:45 am]

BILLING CODE 3410-16-P